DEPARTMENT OF HEALTH AND HUMAN SERVICES

[Document Identifier: OS-0990-New; 60-day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: The Children's Health Insurance Program Reauthorization Act (CHIPRA) Express Lane Eligibility (ELE) Evaluation—OMB No. 0990-NEW—Assistant Secretary Planning and Evaluation (ASPE).

Abstract: The Office of the Assistant Secretary for Planning and Evaluation (ASPE) is requesting the Office of Management and Budget (OMB) approval on a new collection to evaluate the implementation of a new policy known as Express Lane Eligibility (ELE). With ELE, a state's Medicaid and/or Children's Health Insurance Program (CHIP) can rely on another agency's eligibility findings to qualify children for health coverage, despite their different methods of assessing income or otherwise determining eligibility.

CHIPRA authorized an extensive, rigorous evaluation of ELE, creating an exceptional opportunity to document ELE implementation across states and to assess the changes to coverage or administrative costs that may have resulted. The evaluation also provides an opportunity to understand other methods of simplified enrollment that states have been pursuing and to assess the benefits and potential costs of these methods compared to those of ELE. To answer key research questions, ASPE will draw on 5 primary data collections including (1) collecting administrative cost data from ELE and non-ELE states, (2) collecting enrollment data from ELE and non-ELE states, (3) conducting case studies in ELE and non-ELE states, including key informant interviews and focus groups, (4) conducting a 51-state (50 states and the District of Columbia) survey, and (5) holding quarterly monitoring calls with 30 states. This request seeks clearance on all data collections except the collection of administrative cost and enrollment data for ELE states. The administrative cost data, enrollment data, case studies, and 51-state survey will take place only once over the course of the two year evaluation. The quarterly monitoring calls will take place take place 5 times over the course of the 13 months and will include an initial call of up to an hour in length and 4 shorter follow-up calls of about 15 minutes in length each. The administrative cost and enrollment data collection includes contact with key informants and state-level computer programmers and will be collected using Microsoft document templates. The qualitative case studies will include site visit interviews with state and local-level key informants in 8 ELE states and 6 non-ELE states, plus focus groups with parents of children whose eligibility was established or renewed through ELE methods and parents of children enrolled or renewed through non-ELE routes. The survey component will be conducted using a Dataweb program as well as a paper and pencil option and will involve Medicaid and CHIP program directors from the 50 states and the District of Columbia. Finally, the quarterly monitoring calls will be conducted with a sample of 30 states drawn from both ELE and non-ELE states.

Estimated Annualized Burden Table
Forms | Type of respondent | Number of respondents | Number of responses per respondent | Average burden (in hours) per response | Total burden hours
Administrative Cost Discussion Guide (Attachment B) | Key informants | 18 | 1 | 1.5 | 27
Enrollment Extraction Form (Attachment C) | State-level computer programmers | 6 | 1 | 40 | 240
ELE Case Study Protocol (Attachment D1) | Key informants (ELE states—state—and local—levels) | 120 | 1 | 1 | 120
Non-ELE Case Study Protocol (Attachment D2) | Key informants (non-ELE states— state—and local—levels) | 90 | 1 | 1 | 90
Moderator's Guide (Attachments E1 and E2) | Focus group participants (2 focus groups in 8 ELE states and 2 focus groups in 4 non-ELE states = 24 focus groups) | 240 | 1 | 1.5 | 360
51-State Survey (Attachment F) | Medicaid and CHIP officials | 51 | 1 | 45/60 | 38
Quarterly Interview Protocol (Attachment G) | Key informants (quarterly monitoring calls) | 30 | 5 | 30/60 | 75
Total |  |  |  |  | 950

Keith A.Tucker,
Office of the Secretary, Paperwork Reduction Act Reports Clearance Officer.

[FR Doc. 2012-2275 Filed 2-1-12; 8:45 am]

BILLING CODE 4150-05-P